DEPARTMENT OF DEFENSE

Department of the Army

[Docket ID USA-2010-0004]

Privacy Act of 1974; System of Records

AGENCY: Department of the Army, DoD.

ACTION: Notice to add a system of records.

SUMMARY: The Department of the Army proposes to add a system of records to its inventory of record systems subject to the Privacy Act of 1974 (5 U.S.C. 552a), as amended.

DATES: This proposed action would be effective without further notice on May 24, 2010 unless comments are received which result in a contrary determination.

ADDRESSES: You may submit comments, identified by docket number and title, by any of the following methods:

• Federal Rulemaking Portal: http://www.regulations.gov. Follow the instructions for submitting comments.

• Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Leroy Jones at (703) 428-6185.

SUPPLEMENTARY INFORMATION: The Department of the Army notices for systems of records subject to the Privacy Act of 1974 (5 U.S.C. 552a), as amended, have been published in the Federal Register and are available from the Department of the Army, Privacy Office, U.S. Army Records Management and Declassification Agency, 7701 Telegraph Road, Casey Building, Suite 144, Alexandria, VA 22325-3905.

The proposed system report, as required by 5 U.S.C. 552a(r) of the Privacy Act of 1974, as amended, was submitted on April 9, 2010 to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996; 61 FR 6427).

Dated: April 19, 2010.
Mitchell S. Bryman,
Alternate OSD Federal Register Liaison Officer, Department of Defense.

A0030-22 AMC

System name:

Army Food Management Information System Records

System location:

Software Engineering Center, Functional Processing Center, Fort Lee, Virginia 23801-1507.

Categories of individuals covered by the system:

All authorized diners which include Reserve and active components of all services, civilians, contractors and foreign nationals authorized to consume meals in Army dining facilities.

Categories of records in the system:

Name, Social Security Number (SSN), and DoD Electronic Data Interchange Personal Identifier (EDIPI).

Authority for maintenance of the system:

10 U.S.C. 3013, Secretary of the Army; DoD 1338.10, Manual for the DoD Food Program; Army Regulation 30-22, Food Program; and E.O. 9397, as amended.

Purpose(s):

The Army Food Management Information System will be used to automate the Army's Food Service Program. The system facilitates the ordering, receipt, warehousing, and issuance of subsistence to dining facilities and others. Authorized diners are accounted for through the scanning of their identification card to be used on reports to support the number of diners consuming meals during the day in Army dining facilities.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

The DoD `Blanket Routine Uses' set forth at the beginning of the Army's compilation of systems of records notices also apply to this system.

Policies and practices for storing, retrieving, accessing, retaining, and disposing of records in the system:

Storage:

Electronic storage media.

Retrievability:

By individual's name and Social Security Number (SSN).

Safeguards:

The system is housed within a security facility requiring a key card. Electronic records are accessed by authorized persons with a need-to-know through the use of a Common Access Card (CAC) or be sponsored to have an Army Knowledge Online (AKO) account and use the AKO user name and password. Data is encrypted in its stored form and cannot be accessed except through the system application or by the developer when authorized by the team leader.

Retention and disposal:

Records are stored electronically for two years, then destroyed by erasing.

System manager(s) and address:

Supervisor, Army Food Management Information System, Program Manager, 401 First Street, Suite 157, Fort Lee, Virginia 23801-1507.

Notification procedure:

Individuals seeking to determine whether information about themselves is contained in this system should address written inquiries to Army Food Management Information System, Supervisor, 401 First Street, Suite 157, Fort Lee, Virginia 23801-1507.

For verification purposes, individuals should provide their full name, Social Security Number (SSN), any details, which may assist in locating record, and their signature.

In addition, the requester must provide a notarized statement or an unsworn declaration made in accordance with 28 U.S.C. 1746, in the following format:

If executed outside the United States: `I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.

Record access procedures:

Individuals seeking access to information about themselves contained in this system should address written inquiries to the Army Food Management Information System, Supervisor, 401 First Street, Suite 157, Fort Lee, Virginia 23801-1507.

For verification purposes, individuals should provide their full name, Social Security Number (SSN), any details, which may assist in locating record, and their signature.

In addition, the requester must provide a notarized statement or an unsworn declaration made in accordance with 28 U.S.C. 1746, in the following format:

If executed outside the United States: `I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.

Contesting record procedures:

The Army's rules for accessing records, and for contesting contents and appealing initial agency determinations are contained in Army Regulation 340-21; 32 CFR part 505; or may be obtained from the system manager.

Record source categories:

From the individual.

Exemptions claimed for the system:

None.

[FR Doc. 2010-9388 Filed 4-22-10; 8:45 am]

BILLING CODE 5001-06-P